FEDERAL RESERVE SYSTEM

Change in Bank Control Notices; Acquisition of Shares of Bank or Bank Holding Companies; Correction

This notice corrects a notice (FR Doc. 05-18530) published on page 5182 of the issue for Tuesday, February 1, 2005.

Under the Federal Reserve Bank of Minneapolis heading, the entry for William E. Blomster, is revised to read as follows:

A. Federal Reserve Bank of Minneapolis (Jacqueline G. Nicholas, Community Affairs Officer) 90 Hennepin Avenue, Minneapolis, Minnesota 55480-0291:

1. William E. Blomster; Viola Blomster as trustee of the E. Viola Blomster Revocable Trust; Keri Hilgendorf; and Lance Blomster, all of Fairmont, Minnesota, acting in concert; to acquire voting shares of B & M Bancshares, Inc., Fairmont, Minnesota, and thereby indirectly acquire voting shares of State Bank of Fairmont, Fairmont, Minnesota.

Comments on this application must be received by February 16, 2005.

Board of Governors of the Federal Reserve System, February 2, 2005.
Robert deV. Frierson,
Deputy Secretary of the Board.

[FR Doc. 05-2331 Filed 2-7-05; 8:45 am]

BILLING CODE 6210-01-S